DEPARTMENT OF AGRICULTURE

Natural Resources Conservation Service

Big Delta State Historical Park Streambank Protection Project, Big Delta, AK

AGENCY: Natural Resources Conservation Service, USDA.

ACTION: Finding of no significant impact according to the environmental assessment.

SUMMARY: Pursuant to Section 102(2)(c) of the National Environmental Policy Act of 1969; the Council on Environmental Quality Guidelines (40 CFR Part 1500); and the Natural Resources Conservation Service Guidelines (7 CFR Part 650); the Natural Resources Conservation Service, U.S. Department of Agriculture, gives notice of a Finding of No Significant Impact according to the Environmental Assessment of the Big Delta State Historical Park Streambank Protection Project.

FOR FURTHER INFORMATION CONTACT: Shirley Gammon, State Conservationist, Natural Resources Conservation Service, 800 West Evergreen, Suite 100, Palmer, Alaska 99645-6539; telephone: 907-761-7760.

SUPPLEMENTARY INFORMATION: The Environmental Assessment of this Federally assisted action indicates that there will be no significant environmental impacts. As a result of these findings, Shirley Gammon, State Conservationist, has determined that the project should be completed as outlined in the assessment document.

The objective of the Big Delta State Historical Park Streambank Protection Project is to install streambank protection measures to control erosion and protect the historic district while minimizing disturbance to the fall chum spawning habitat. The selected alternative is four rock barbs extending approximately 65 feet into the river, angling about 45 degrees upstream rising 1.4 feet above the riverbed. In conjunction with the barb installation, a vegetation re-establishment plan will be implemented to address the eroding sections of the bank between the barbs and enhance the existing landscape and riparian buffer. Alternatives evaluated were No Action, relocation of threatened facilities, modification of existing vegetation maintenance practices, groins, riprap revetment, riprap revetment with soil wraps and brush layers, and rock barbs. The selected alternative is rock barbs. This alternative was selected because it protects the riverbank adjacent to the Big Delta State Historical Park, minimizes the constructed footprint in the fall chum spawning habitat, and maintains the aesthetic qualities of the site. The barbs result in no significant rise in the flood waters in Tanana River.

A limited number of copies of the EA are available to fill single copy requests at the above address. Basic data developed during the environmental assessment are on file and may be reviewed by contacting Shirley Gammon, State Conservationist, at the above address. Further information on the proposed action may be obtained from Shirley Gammon, State Conservationist.

Dated: March 8, 2004.
Shirley Gammon,
State Conservationist.

[FR Doc. 04-6937 Filed 3-26-04; 8:45 am]

BILLING CODE 3410-16-P